NUCLEAR REGULATORY COMMISSION

[Docket No. 40-8681-MLA-11; ASLBP No. 02-795-02-MLA]

International Uranium (USA) Corporation; Designation of Presiding Officer

Pursuant to delegation by the Commission, see 37 FR 28,710 (Dec. 29, 1972), and the Commission's regulations, see 10 CFR 2.1201, 2.1207, notice is hereby given that (1) a single member of the Atomic Safety and Licensing Board Panel is designated as Presiding Officer to rule on petitions for leave to intervene and/or requests for hearing; and (2) upon making the requisite findings in accordance with 10 CFR 2.1205(h), the Presiding Officer will conduct an adjudicatory hearing in the following proceeding:

International Uranium (USA) Corporation

White Mesa Uranium Mill

(Source Material License Amendment)

The hearing will be conducted pursuant to 10 CFR part 2, subpart L, of the Commission's Regulations, “Informal Hearing Procedures for Adjudications in Materials and Operator Licensing Proceedings.” This proceeding concerns a December 15, 2001 hearing request submitted by William E. Love. The request was filed in response to an NRC staff proposal, following a staff environmental assessment and finding of no significant impact, to authorize an amendment to the International Uranium (USA) Corporation (IUSA) source material license for its Blanding, Utah White Mesa Uranium Mill that would permit IUSA to receive and process alternate feed materials from the Molycorp site located in Mountain Pass, California. The notice of final finding of no significant impact and opportunity for a hearing was published in the Federal Register on December 11, 2001 (66 FR 64,064).

The Presiding Officer in this proceeding is Administrative Judge Alan S. Rosenthal. Pursuant to the provisions of 10 CFR 2.722, 2.1209, Administrative Judge Richard F. Cole has been appointed to assist the Presiding Officer in taking evidence and in preparing a suitable record for review.

All correspondence, documents, and other materials shall be filed with Judges Rosenthal and Cole in accordance with 10 CFR 2.1203. Their addresses are:

Administrative Judge Alan S. Rosenthal, Presiding Officer, Atomic Safety and Licensing Board Panel, U.S. Nuclear Regulatory Commission, Washington, DC 20555-0001

Dr. Richard F. Cole, Special Assistant, Atomic Safety and Licensing Board Panel, U.S. Nuclear Regulatory Commission, Washington, DC 20555-0001.

Issued at Rockville, Maryland, this 3rd day of January 2002.
G. Paul Bollwerk, III,
Chief Administrative Judge, Atomic Safety and Licensing Board Panel.

[FR Doc. 02-496 Filed 1-8-02; 8:45 am]

BILLING CODE 7590-01-P